DEPARTMENT OF LABOR

Employment and Training Administration

[OMB Control Number 1205-0457]

Comment Request for Information Collection for Form ETA-9127, Foreign Labor Certification Quarterly Activity Report, Revision of a Currently Approved Collection

AGENCY: Employment and Training Administration (ETA), Labor.

ACTION: Notice.

SUMMARY: The Department of Labor (DOL or Department), as part of its continuing effort to reduce paperwork and respondent burden, conducts a preclearance consultation program to provide the public and Federal agencies with an opportunity to comment on proposed and/or continuing collections of information in accordance with the Paperwork Reduction Act of 1995. This program helps ensure that requested data can be provided in the desired format, reporting burden (time and financial resources) is minimized, collection instruments are clearly understood, and the impact of collection requirements on respondents can be properly assessed.

Currently, the Employment and Training Administration (ETA) is soliciting comments concerning the collection of data through Form ETA-9127, Foreign Labor Certification Quarterly Activity Report (Office of Management and Budget (OMB)) Control Number 1205-0457), which expires October 31, 2018. The Form ETA-9127 solicits information from State Workforce Agencies (SWAs) who are recipients of foreign labor certification grants about program-related activities performed by SWA staff in accordance with specific fiscal year annual plans. These activities include reviewing and transmitting H-2A and H-2B job orders, conducting H-2A prevailing wage and prevailing practice surveys, and performing H-2A related housing inspections of facilities offered to agricultural workers.

DATES: Written comments must be submitted to the office listed in the addresses section below on or before August 20, 2018.

ADDRESSES: A copy of this information collection request (ICR), with applicable supporting documentation, including a description of the likely respondents, proposed frequency of response, and estimated total burden may be obtained free of charge by contacting William W. Thompson, II, Administrator, Office of Foreign Labor Certification, telephone number: 202-513-7350 (this is not a toll-free number). Individuals with hearing or speech impairments may access the telephone number above via TTY by calling the toll-free Federal Information Relay Service at 1-877-889-5627 (TTY/TDD). Requests may also be made by fax at 202-513-7395 or by email at ETA.OFLC.Forms@dol.gov subject line: Form ETA-9127.

Submit written comments about, or requests for a copy of, this ICR by mail or courier to the U.S. Department of Labor, Employment and Training Administration, Office of Foreign Labor Certification, Room 12-200, 200 Constitution Avenue NW, Washington, DC 20210; by email: ETA.OFLC.Forms@dol.gov subject line: Form ETA-9127; or by Fax: 202-513-7395.

SUPPLEMENTARY INFORMATION:

I. Background

Under the foreign labor certification programs administered by ETA, SWAs are funded through annually reimbursable grants. These grants fund certain activities that support the processing of applications for temporary labor certification filed by U.S. employers in order to hire foreign workers in the H-2B or H-2A visa categories to perform nonagricultural or agricultural services or labor. Under the grant agreements, SWAs must review and transmit, through the intrastate and interstate systems, job orders submitted by employers in order to recruit U.S. workers prior to filling the job openings with foreign workers.

In order to effectively monitor the administration of foreign labor certification activities by the SWAs, the Department requires the SWAs to report their workloads related to these activities on a quarterly basis. This collection of information is conducted through Form ETA-9127, Foreign Labor Certification Quarterly Activity Report. This report is critical for ensuring accountability and for future program management, including budget and workload management. ETA intends to revise the information collection by clarifying the Form ETA-9127 instructions and making minor changes to the PRA disclosure on the form.

The Department has proposed changes to the collection. Specifically, the Form ETA-9127 has been changed to capture information currently needed to make decisions on grant fund distribution.

Two questions were removed from Form ETA-9127. The first question removed referenced union contacts made by the SWA. This question was removed because this data is not currently reviewed by the grants management unit of ETA's OFLC. Union contacts are made by SWAs when the Chicago National Processing Center Certifying Officers have determined that the occupation or industry is traditionally or customarily unionized. In such circumstances, the Certifying Officer collects this information when confirming referrals with the SWAs during the certification process. Therefore, this information is available to the Department without engaging in this data collection. Continuing to collect such information would result in unwarranted data collection creating an undue burden on those filing the Form ETA-9127.

The second question removed is located in both the H-2A and H-2B sections, and prompts the SWA to list the most common deficiencies on the job order. The collection of this data is no longer needed because the Chicago NPC, which receives the job orders from the SWA, has addressed previously common deficiencies found on job orders in published Frequently Asked Questions and outreach to SWAs and employers. Again, continuing to collect such information would result in unwarranted data collection creating an undue burden on those filing the Form ETA-9127.

The Form ETA-9127 instructions have been modified in order to promote clarity because of some confusion expressed by the SWAs. Two terms, interstate and intrastate, have been segmented and defined in plain language to reduce this confusion and minimize the burden to the SWAs.

II. Review Focus

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Revision.

Title of Collection: Form ETA-9127, Foreign Labor Certification Quarterly Activity Report.

OMB Control Number: 1205-0457.

Affected Public: State, local or tribal governments.

Form(s): ETA-9127.

Total Estimated Annual Respondents: 54.

Annual Frequency: Quarterly.

Total Estimated Annual Responses: 216.

Average Time per Response: 1 hour and 45 minutes.

Total Estimated Annual Burden Hours: 378.

Total Estimated Annual Other Costs Burden: $0.

Comments submitted in response to this comment request will be summarized and/or included in the request for OMB approval of the ICR; they will also become a matter of public record. Commenters are encouraged not to submit sensitive information (e.g., confidential business information or personally identifiable information such as a Social Security number).

Rosemary Lahasky,
Deputy Assistant Secretary for Employment and Training Administration.

[FR Doc. 2018-13315 Filed 6-20-18; 8:45 am]

BILLING CODE 4510-FP-P